DEPARTMENT OF DEFENSE

Defense Acquisition Regulations System

48 CFR Part 217

Special Contracting Methods

CFR Correction

In Title 48 of the Code of Federal Regulations, Chapter 2, Parts 200 to 299, revised as of October 1, 2014, on page 117, in section 217.171, redesignate paragraph (c)(2)(C)(2) as paragraph (c)(2)(i).

[FR Doc. 2015-14528 Filed 6-12-15; 8:45 am]

BILLING CODE 1505-01-D